DEPARTMENT OF ENERGY

Petroleum Industry of the Future

AGENCY: Idaho Operations Office, Department of Energy.

ACTION: Notice of Availability of Solicitation.

SUMMARY: The U.S. Department of Energy, Idaho Operations Office, is seeking applications for cost shared research and development of technologies which will reduce energy consumption, reduce environmental impacts and enhance economic competitiveness of the domestic petroleum industry. The research is to address priorities identified by the petroleum refining industry in the Technology Roadmap for the Petroleum Industry (URL: http://www.oit.doe.gov/petroleum/pdfs/petroleumroadmap.pdf).

DATES: The deadline for receipt of applications is 5:00 p.m. EST on October 31, 2001.

ADDRESSES: The formal solicitation document will be disseminated electronically as Solicitation Number DE-PS07-01ID14211, Petroleum Industry of the Future, through the Industry Interactive Procurement System (IIPS) located at the following URL: http://e-center.doe.gov. IIPS provides the medium for disseminating solicitations, receiving financial assistance applications and evaluating the applications in a paperless environment. Completed applications are required to be submitted via IIPS. Individuals who have the authority to enter their company into a legally binding contract/agreement and intend to submit proposals/applications via the IIPS system must register and receive confirmation that they are registered prior to being able to submit an application on the IIPS system. An IIPS “User Guide for Contractors” can be obtained by going to the IIPS Homepage at the following URL: http://e-center.doe.gov and then clicking on the “Help” button. Questions regarding the operation of IIPS may be e-mailed to the IIPS Help Desk at IIPS—HelpDesk@e-center.doe.gov or call the help desk at (800) 683-0751.

FOR FURTHER INFORMATION CONTACT: Carol Van Lente, Contract Specialist, at vanlencl@id.doe.gov.

SUPPLEMENTARY INFORMATION: The statutory authority for this program is the Federal Non-Nuclear Energy Research & Development Act of 1974 (P.L. 93-577). Approximately $1,000,000 in federal funds is expected to be available to totally fund the first year of selected research efforts. DOE anticipates making at least two awards each with a duration of three years or less.

Issued in Idaho Falls on August 22, 2001.
R. J. Hoyles,
Director, Procurement Services Division.

[FR Doc. 01-21918 Filed 8-29-01; 8:45 am]

BILLING CODE 6450-01-P